DEPARTMENT OF COMMERCE

National Oceanic and Atmospheric Administration

50 CFR Part 660

[I.D. 061500E]

RIN 0648-AL51

Fisheries off West Coast States and in the Western Pacific; Amendment 14

AGENCY: National Marine Fisheries Service (NMFS), National Oceanic and Atmospheric Administration (NOAA), Commerce.

ACTION: Notice of availability of amendment to fishery management plan; request for comments.

SUMMARY: NMFS announces that the Pacific Fishery Management Council (Council) has submitted Amendment 14 to the Pacific Coast Salmon Plan for Secretarial review. Amendment 14 has multiple parts. The major parts of the amendment include revising the Salmon FMP to bring it into compliance with the 1996 amendments to the Magnuson-Stevens Fishery Conservation and Management Act (Magnuson-Stevens Act), including designation of essential fish habitat (EFH) and new requirements to reduce bycatch, prevent overfishing, and rebuild stocks that are overfished; establishing a new recreational allocation for the Port of La Push, Washington and adding flexibility to deviate from specified recreational Port allocations based on the agreement of representatives from the affected Ports; and establishing preseason flexibility to deviate from commercial and recreational gear allocations and recreational port allocations North of Cape Falcon, OR in order to access marked hatchery salmon in selective fisheries. The majority of Amendment 14 changes are to the Salmon FMP, while only some of the changes will be codified in the regulations and are contained in the proposed rule. Specifically, the proposed rule makes minor changes to language regarding escapement and management goals, implements a new recreational allocation to the Port of La Push and adjusts the Neah Bay allocation relative to La Push, adds preseason flexibility for recreational port allocations North of Cape Falcon, and implements preseason flexibility in setting recreational port allocation or recreational and commercial allocations North of Cape Falcon to take advantage of selective fishing opportunities.

DATES: Comments on Amendment 14 must be received at the appropriate address or fax number, (see ADDRESSES) no later than 5 p.m., Pacific daylight time August 28, 2000.

ADDRESSES: Written comments should be sent to William Stelle, Jr., Regional Administrator, Northwest Region, NMFS, 7600 Sand Point Way NE., Seattle, WA 98115-0070, or sent via facsimile (fax) to: 206-526-6376; or to Rodney R. McInnis, Acting Regional Administrator, Southwest Region, NMFS, 501 West Ocean Boulevard, Suite 4200, Long Beach, CA 90802-4213, or sent via facsimile (fax) to: 562-980-4018. Comments will not be accepted if submitted via email or Internet.

Copies of Amendment 14 and the Supplemental Environmental Impact Statement/Regulatory Impact Review (RIR)/Initial Regulatory Flexibility Analysis are available from Dr. Donald O. McIsaac, Executive Director, Pacific Fishery Management Council, 2130 SW Fifth Ave., Suite 224, Portland, OR 97201.

FOR FURTHER INFORMATION CONTACT: Christopher L. Wright at 206-526-6140, Svein Fougner at 562-980-4005, or the Pacific Fishery Management Council at 503-326-6352.

SUPPLEMENTARY INFORMATION: The Magnuson-Stevens Act requires that each Regional Fishery Management Council submit any new fishery management plan (FMP) or plan amendment it prepares to NMFS for review and approval, disapproval, or partial approval. The Magnuson-Stevens Act also requires that NMFS, upon receiving an FMP or amendment, immediately publish a notification in the Federal Register that the FMP or amendment is available for public review and comment. NMFS will consider the public comments received during the comment period in determining whether to approve the FMP or amendment.

The major provisions of Amendment 14 that will bring the Salmon FMP into compliance with the 1996 amendments to the Magnuson-Stevens Act include: An identification and description of EFH, including a discussion of threats to EFH and recommended measures to conserve and enhance EFH; a new definition of optimum yield; a definition and new requirements for bycatch; and new requirements for prevention of overfishing and rebuilding of stocks that are overfished. A new section has been added to the Salmon FMP in Chapter 1, entitled “What the Plan Covers,” that provides a clear description of what the Salmon FMP covers, and places information on fishery impacts to salmon stocks in the chapter on harvest. In addition, the amendment updates the fishery description to reference new appendices to the Salmon FMP.

Amendment 14 also implements a new recreational allocation to the Port of La Push and adjusts the Neah Bay allocation relative to La Push, adds preseason flexibility for recreational port allocations North of Cape Falcon, and implements preseason flexibility in setting recreational port allocations or recreational and commercial allocations North of Cape Falcon to take advantage of selective fishing opportunities.

The EFH provisions of Amendment 14 identify and describe EFH in aquatic areas including the exclusive economic zone, nearshore waters, and rivers. The EFH provisions of the Magnuson-Stevens Act require Federal agencies that authorize, fund, or undertake actions that may adversely affect EFH to consult with NMFS, and require NMFS to provide non-binding conservation recommendations to Federal and state agencies regarding actions that would adversely affect EFH. In most cases EFH consultations can be combined with other environmental reviews that are required under other laws.

The overfishing provisions of Amendment 14 are guided by the conservation needs of the species covered by the Salmon FMP. The management goals of the Salmon FMP, referred to as “conservation objectives,” are generally defined in terms of stock-specific spawning escapement goals. The target control rules for individual stocks are defined by the conservation objectives and generally correspond to Maximum Sustained Yield or Maximum Sustained Production objectives.

Appendix B of Amendment 14 describes the social and economic characteristics of the ocean salmon fishery off the west coast and identifies those fishing communities with annual salmon landings in excess of $10,000 ex-vessel value. A major purpose of the Salmon FMP's allocation objectives is to preserve the economic viability of local ports and/or specific coastal communities.

Public comments on Amendment 14 must be received by August 28, 2000, to be considered by NMFS in the decision to approve Amendment 14. A proposed rule to implement Amendment 14 has been submitted for Secretarial review and approval. NMFS expects to publish and request public comment on the proposed regulations to implement Amendment 14 in the near future.

Authority: 16 U.S.C. 1801 et seq.

Dated: June 21, 2000.
Bruce C. Morehead,
Acting Director, Office of Sustainable Fisheries, National Marine Fisheries Service.

[FR Doc. 00-16225 Filed 6-26-00; 8:45 am]

BILLING CODE 3510-22-F